DEPARTMENT OF COMMERCE

[I.D. 121200B]

Submission for OMB Review; Comment request.

The Department of Commerce has submitted to the Office of Management and Budget (OMB) for clearance the following proposal for collection of information under the provisions of the Paperwork Reduction Act (44 U.S.C. Chapter 35).

Agency: National Oceanic and Atmospheric Administration (NOAA).

Title: American Fisheries Act: Pollock Fishery Vessel Monitoring System.

Form Numbers(s): None.

OMB Approval Number: None.

Type of Request: Regular submission.

Burden Hours: 3,600.

Number of Respondents: 150.

Average Hours Per Response: 6 hours to install a vessel monitoring system, 4 hours for annual maintenance of the system, and 5 seconds per automated position transmission.

Needs and Uses: Participants in the Bering Sea-Aleutian Islands pollock fishery would be required to purchase a vessel monitoring system that automatically transmits location data every 20 minutes during a fishing trip. The vessel owner would be responsible for installation and data transmission charges. The position information is necessary for NMFS to enforce regulations regarding fishing in the Steller sea lion conservation area.

Affected Public: Business and other for-profit organizations.

Frequency: Position reports every 20 minutes, installation once.

Respondent’s Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at Clayton@doc.gov).

Written comments and recommendations for the proposed information collection should be sent within 30 days of publication of this notice to David Rostker, OMB Desk Officer, Room 10202, New Executive Office Building, Washington, DC 20503.

Dated: December 8, 2000.
Madeleine Clayton,
Departmental Forms Clearance Officer, Office of the Chief Information Officer.

[FR Doc. 00-32051 Filed 12-15-00; 8:45 am]

BILLING CODE: 3510-22 -S